FEDERAL HOUSING FINANCE AGENCY

[No. 2023-N-10]

Request for Applications and Nominations for Members of the Federal Housing Finance Agency Federal Advisory Committee on Affordable, Equitable, and Sustainable Housing

AGENCY: Federal Housing Finance Agency.

ACTION: Notice.

SUMMARY: The Federal Housing Finance Agency is seeking individuals to serve on the Advisory Committee on Affordable, Equitable, and Sustainable Housing (Committee). It is estimated that the Committee will meet at least twice annually to advise FHFA regarding affordable, equitable, and sustainable housing. Recommendations by the Committee help inform FHFA's perspective on regulatory, guidance, or policy changes that may be necessary to expand affordable, equitable, and sustainable housing, with a focus on FHFA's regulated entities and their respective roles in providing a reliable source of liquidity and funding for housing finance and community investment including both single-family and multifamily housing.

DATES: FHFA will consider applications or nominations received before or on October 13, 2023.

ADDRESSES: Applications and nominations should be sent to by email to: ACAESH@fhfa.gov or the Advisory Committee on Affordable, Equitable, and Sustainable Housing Review Group, Office of Housing & Community Investment, Division of Housing Mission and Goals, Federal Housing Finance Agency, Constitution Center, 400 7th Street SW, Washington, DC 20219.

FOR FURTHER INFORMATION CONTACT: Paul Theruviparampil, Senior Policy Analyst, Office of Housing & Community Investment, Division of Housing Mission and Goals, (202-649-3982) (not a toll-free number), ACAESH@fhfa.gov; Ted Wartell, Associate Director, Housing & Community Investment, Division of Housing Mission and Goals, (202) 649-3157 (not a toll-free number), Ted.Wartell@fhfa.gov, Federal Housing Finance Agency, Constitution Center, 400 7th Street SW, Washington, DC 20219. For TTY/TRS users with disabilities, dial 711 and ask to be connected to the contact number above.

Privacy Act Statement

Authority: Pursuant to Federal Advisory Committee Act (Pub. L. 92-463, 5 U.S.C. 10), we are authorized to collect this information as may be necessary or appropriate in the creation of Federal advisory committees, which will provide objective advice and recommendations regarding agency programs and policies. Disclosure of the requested information is voluntary.

Purpose: This information is being collected and maintained in order to determine eligibility and select applicants to fill vacant positions on the FACA committee(s).

Routine Uses: While the information requested is intended to be used primarily for internal purposes, in certain circumstances it may be necessary to disclose this information externally, for example to: a federal agency or other external entity to the extent necessary to address a suspected or confirmed compromise of the security, availability, or confidentiality of information; to other agencies, courts, and persons as necessary and relevant in the course of litigation, and as necessary and in accordance with requirements for law enforcement; or to a person authorized to act on your behalf. A complete list of the routine uses can be found in the SORNs associated with this collection of information, FHFA-30, Advisory Committee Manager (88 FR 9518).

Consequence of Failure to Provide Information: Providing this information is voluntary. The consequence of not submitting your ideas, comments, requests, or questions is that you will not be considered for membership on an FHFA advisory committee.

SUPPLEMENTARY INFORMATION:

Committee Objectives

In accordance with the Federal Advisory Committee Act (FACA) (5 U.S.C. 10), FHFA has established the Advisory Committee on Affordable, Equitable, and Sustainable Housing (Committee). The Committee will provide advice and input regarding affordable, equitable, and sustainable housing needs, barriers to access, barriers to long-term sustainability, and any regulations, guidance, or policy changes that may be necessary to expand affordable, equitable, and sustainable housing. The Committee will better position FHFA to fulfill its strategic goal of supporting access to affordable, equitable, and sustainable housing. These interests will focus on FHFA's regulated entities—Fannie Mae, Freddie Mac, and the Federal Home Loan Banks—and their respective roles in providing liquidity and funding to support housing finance in the single-family and multifamily housing markets.

For more information about the Committee, visit https://www.fhfa.gov/PolicyProgramsResearch/Programs/Pages/Fed-Adv-Committee-AES-Housing.aspx.

Membership

The Committee will consist of approximately 20 members, serving two-year terms which may be extended at the discretion of the Agency. Members will serve at the sole discretion of the Director.

To achieve a fairly balanced membership, FHFA will seek members representative of diverse communities, points of view, organizational size, and geographical location with expertise in affordable, sustainable, or equitable housing in single-family and multifamily housing. The Committee will include members with expertise in at least one of the seven areas related to duties of the Committee:

1. Fair lending, fair housing, or civil rights;

2. Single-family lending, servicing, development, mortgages, or capital markets;

3. Multifamily lending, servicing, development, mortgages, capital markets, or investments (e.g., Low-Income Housing Tax Credits);

4. Consumer, tenant, or community advocacy;

5. Housing market technology;

6. State, local, or tribal government housing policies and programs; and

7. Academic or non-academic affiliated housing research.

The Committee may also include special government employees (SGEs) and representative members. Membership balance is not static and may change to reflect the current work of the Committee. When selected, SGEs serve as special subject matter experts and provide their own personal and independent judgement, in a manner that is free from any conflict of interest as determined by law and regulation.

Representative members gather and synthesize information and present the views of stakeholders they represent. Representatives do not provide their own personal views and independent advice based on their own individual expertise and experience. The Committee membership shall not include Fannie Mae, Freddie Mac, or any of the Federal Home Loan Banks (or any of their respective current officers, employees, or board members).

Responsibilities and Limitations

The duties of the Committee are solely advisory and shall extend only to its submission of advice and recommendations to FHFA (within the scope of the Committee's activities as defined in the Charter) which will be non-binding on FHFA.

No determination of fact or policy will be made by the Committee. The Committee will have no decision-making role and will have no access to non-public FHFA information, to include confidential supervisory, controlled unclassified, or other confidential information.

While members of the Committee serve without compensation, FHFA may (at its sole discretion) reimburse them for travel expenses, including per diem in lieu of subsistence, for travel away from their homes or regular places of business in performance of Committee service (see 5 U.S.C. 5703).

The Committee will meet at such intervals as are required to carry out its functions. It is estimated that the Committee will meet at least twice per year. Generally, Committee meetings are open to the public.

Applications and Nominations

If you wish to apply for membership— An application sent to the application page or mailed to FHFA is required to be considered for membership. The application package must include:

1. The applicant's full name, title, institutional affiliation, and contact information;

2. Resume, curriculum vitae, or other summary of professional experience no more than two pages in length with starting and ending year and month for each entry;

3. The applicant's area of expertise as it relates to the duties of the Committee;

4. A Statement of Interest no more than one page in length describing the applicant's qualifications for service on the Committee and the contributions the applicant hopes to make; and

5. A recommendation letter of no more than one page in length from a third party or outside organization, examples of which can be a trade association, community organization, or government official or entity.

If an individual is interested in serving as a Special Government Employee, the applicant may include two to three references consisting of the names and contact telephone numbers of the reference. Some members of the Committee may be required to adhere to the conflict of interest rules applicable to Special Government Employees. These rules include relevant provisions in 18 U.S.C. 202(a) related to criminal activity, Standards of Ethical Conduct for Employees of the Executive Branch (5 CFR part 2635), and Executive Order 12674 (as modified by Executive Order 12731). Applicants must state in their application that they agree to submit to these pre-appointment checks if required.

If you or your organization wish to nominate someone else for membership—A nomination sent to the application page or mailed to FHFA is required to be considered for membership. The nomination package must include:

1. The nominee's full name, title, institutional affiliation, and contact information;

2. Resume, curriculum vitae, or other summary of professional experience no more than two pages in length with starting and ending year and month for each entry;

3. The nominee's area of expertise as it relates to the duties of the Committee; and

4. A Statement of Nomination of no more than one page in length describing the nominee's qualifications for service on the Committee and the contributions the nominee could be expected to make.

All application and nomination materials must be provided in a single, complete package, and must be sent to the Committee Designated Federal Officer at the electronic address provided above. Incomplete applications will not be considered.

Sandra L. Thompson,
Director, Federal Housing Finance Agency.

[FR Doc. 2023-19805 Filed 9-12-23; 8:45 am]

BILLING CODE 8070-01-P